DEPARTMENT OF TRANSPORTATION

Federal Highway Administration

Environmental Impact Statement: Mendocino County, CA

AGENCY: Federal Highway Administration (FHWA), DOT.

ACTION: Rescind Notice of Intent to Prepare an Environmental Impact Statement.

SUMMARY: The FHWA, on behalf of the California Department of Transportation (Caltrans) is issuing this notice to advise the public that the Notice of Intent (NOI) published on September 5, 2002 Federal Register, (Federal Register/Vol. 67, No. 172/Thursday, September 5, 2002/Notices (56872) to prepare an Environmental Impact Statement (EIS) for a proposed highway project on State Route 101 in Mendocino County is being rescinded.

FOR FURTHER INFORMATION CONTACT: Sandra E. Rosas, Chief, Office of Environmental Management, Caltrans, 703 B Street, Marysville, CA 95901 or call (530) 741-4017.

SUPPLEMENTARY INFORMATION: Effective July 1, 2007, the Federal Highway Administration (FHWA) assigned, and the California Department of Transportation (Caltrans) assumed, environmental responsibilities for this project pursuant to 23 U.S.C. 327. Caltrans, as the delegated National Environmental Policy Act (NEPA) agency, is rescinding the NOI to prepare an EIS for the Hopland Bypass Project in Mendocino County, California. The 8.8 mile project proposed to construct a four-lane freeway or expressway on State Route 101 in southern Mendocino County and bypass the community of Hopland. Since the NOI to prepare an EIS was published in the Federal Register on September 5, 2002, Caltrans conducted public involvement and agency coordination, developed a purpose and need for the project, and studied seven preliminary alternatives. The NOI is being rescinded due to a lack of funds being identified in this program type. Comments or questions concerning this proposed action should be directed to Caltrans at the address provided above.

(Catalog of Federal Domestic Assistance Program Number 20.205, Highway Planning and Construction. The regulations implementing Executive Order 12372 regarding intergovernmental consultation on Federal programs and activities apply to this program.)

Issued on: August 3, 2011.
Cesar E. Perez,
Senior Transportation Engineer, Federal Highway Administration, Sacramento, California.

[FR Doc. 2011-20135 Filed 8-8-11; 8:45 am]

BILLING CODE 4910-22-P